DEPARTMENT OF ENERGY

Federal Energy Regulatory Commission

Combined Notice of Filings #1

Take notice that the Commission received the following electric rate filings:

Docket Numbers: ER20-1977-003.

Applicants: Versant Power.

Description: Compliance filing: Revised Joint Offer of Settlement Re: Maine Public District Charges (ER20-1977) to be effective N/A.

Filed Date: 1/25/23.

Accession Number: 20230125-5052.

Comment Date: 5 p.m. ET 2/15/23.

Docket Numbers: ER23-426-001.

Applicants: California Independent System Operator Corporation.

Description: Compliance filing: 2023-01-24 Amended Compliance Filing—NAESB Standards Version 003.3 to be effective 12/31/9998.

Filed Date: 1/24/23.

Accession Number: 20230124-5138.

Comment Date: 5 p.m. ET 2/14/23.

Docket Numbers: ER23-427-001.

Applicants: California Independent System Operator Corporation.

Description: Compliance filing: 2023-01-24 Amended Waiver Filing—NAESB Standards Version 003.3 to be effective N/A.

Filed Date: 1/24/23.

Accession Number: 20230124-5139.

Comment Date: 5 p.m. ET 2/14/23.

Docket Numbers: ER23-652-000.

Applicants: Happy Solar 1, LLC.

Description: Supplement to December 16, 2022, to Petition for Acceptance of Initial Market-Based Rate Tariff, Waivers and Blanket Authority Happy Solar 1, LLC tariff filing.

Filed Date: 1/19/23.

Accession Number: 20230119-5156.

Comment Date: 5 p.m. ET 1/30/23.

Docket Numbers: ER23-926-000.

Applicants: LS Power Grid California, LLC.

Description: Compliance filing: LS Power Grid California Order No. 864 Compliance Update to be effective 3/27/2023.

Filed Date: 1/24/23.

Accession Number: 20230124-5137.

Comment Date: 5 p.m. ET 2/14/23.

Docket Numbers: ER23-927-000.

Applicants: Mitsui Bussan Commodities, Ltd.

Description: § 205(d) Rate Filing: Normal filing 2023 to be effective 1/26/2023.

Filed Date: 1/25/23.

Accession Number: 20230125-5000.

Comment Date: 5 p.m. ET 2/15/23.

Docket Numbers: ER23-929-000.

Applicants: Southwest Power Pool, Inc.

Description: § 205(d) Rate Filing: 2900R19 KMEA NITSA NOA to be effective 1/1/2023.

Filed Date: 1/25/23.

Accession Number: 20230125-5022.

Comment Date: 5 p.m. ET 2/15/23.

Docket Numbers: ER23-930-000.

Applicants: Southwest Power Pool, Inc.

Description: § 205(d) Rate Filing: 2236R16 Golden Spread Electric Cooperative, Inc. NITSA NOA to be effective 1/1/2023.

Filed Date: 1/25/23.

Accession Number: 20230125-5049.

Comment Date: 5 p.m. ET 2/15/23.

Docket Numbers: ER23-931-000.

Applicants: American Electric Power Service Corporation, PJM Interconnection, L.L.C.

Description: Compliance filing: American Electric Power Service Corporation submits tariff filing per 35: AEP submits Informational Filing about Att. 1 of ILDSA, SA No. 1336 to be effective N/A.

Filed Date: 1/25/23.

Accession Number: 20230125-5078.

Comment Date: 5 p.m. ET 2/15/23.

Docket Numbers: ER23-932-000.

Applicants: AEP Texas Inc.

Description: § 205(d) Rate Filing: AEPTX-Southwest Texas EC-Golden Spread EC (Shell Bailey) FDA to be effective 1/12/2023.

Filed Date: 1/25/23.

Accession Number: 20230125-5079.

Comment Date: 5 p.m. ET 2/15/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2023.
Debbie-Anne A. Reese,
Deputy Secretary.

[FR Doc. 2023-01948 Filed 1-30-23; 8:45 am]

BILLING CODE 6717-01-P